DEPARTMENT OF LABOR

Employment and Training Administration

20 CFR Parts 626, 627, 628, 631, 632, 633, 634, 636, 637, and 638

RIN 1205-AB68

Removal of Job Training Partnership Act Implementing Regulations

AGENCY: Employment and Training Administration, Labor.

ACTION: Direct final rule.

SUMMARY: The Employment and Training Administration (ETA) of the Department of Labor (Department) is removing the regulations at 20 CFR parts 626, 627, 628, 631, 632, 633, 634, 636, 637, and 638, which implemented the Job Training Partnership Act (JTPA or the Act). These regulations were designed to improve the employment status of disadvantaged youth, adults, dislocated workers, and other individuals facing barriers to employment. In 1998, Congress passed the Workforce Investment Act (WIA), which required the Secretary of Labor to transition any authority under the JTPA to the system created by WIA. Therefore, the Department is taking this action to remove regulations for a program that is no longer operative.

DATES: This Direct Final Rule is effective April 1, 2013 without further action, unless significant adverse comment is received by January 30, 2013. If significant adverse comment is received, the Department of Labor will publish a timely withdrawal of the rule in the Federal Register.

ADDRESSES: You may submit comments, identified by RIN 1205-AB68, by one of the following methods:

Federal e-Rulemaking Portal: http://www.regulations.gov. Follow the Web site instructions for submitting comments.

Mail and hand delivery/courier: Written comments, disk, and CD-ROM submissions may be mailed to Michael S. Jones, Acting Administrator, Office of Policy Development and Research, U.S. Department of Labor, 200 Constitution Avenue NW., Room N-5641, Washington, DC 20210.

Instructions: Label all submissions with “RIN 1205-AB68.”

Please submit your comments by only one method. Please be advised that the Department will post all comments on this Direct Final Rule on http://www.regulations.gov without making any change to the comments or redacting any information. The http://www.regulations.gov Web site is the Federal e-rulemaking portal and all comments posted there are available and accessible to the public. Therefore, the Department recommends that commenters remove personal information such as Social Security Numbers, personal addresses, telephone numbers, and email addresses included in their comments as such information may become easily available to the public via the http://www.regulations.gov Web site. It is the responsibility of the commenter to safeguard their personal information.

Also, please note that due to security concerns, postal mail delivery in Washington, DC may be delayed. Therefore, the Department encourages the public to submit comments on http://www.regulations.gov.

Docket: All comments on this Direct Final Rule will be available on the http://www.regulations.gov Web site, posted without change, and can be found using RIN 1205-AB68. The Department also will make all the comments it receives available for public inspection by appointment during normal business hours at the above address. If you need assistance to review the comments, the Department will provide you with appropriate aids such as readers or print magnifiers. The Department will make copies of the rule available, upon request, in large print and electronic file on computer disk. To schedule an appointment to review the comments and/or obtain the rule in an alternative format, contact the Office of Policy Development and Research at (202) 693-3700 (this is not a toll-free number). You may also contact this office at the address listed below.

FOR FURTHER INFORMATION CONTACT: Michael S. Jones, Acting Administrator, Office of Policy Development and Research, Employment and Training Administration, U.S. Department of Labor, Room N-5641, 200 Constitution Avenue NW, Washington, DC 20210; telephone: (202) 693-3700 (this is not a toll-free number). This notice is available through the printed Federal Register, and electronically at http://www.gpo.gov/fdsys/browse/collection.action?collectionCode=FR.

SUPPLEMENTARY INFORMATION:

I. Direct Final Rule Procedure

Since removal of the Job Training Partnership Act implementing regulations is not controversial, and the authorizing legislation for these regulations has been repealed, these regulations govern a program that is no longer in operation. The Department therefore has determined that good cause exists to remove these regulations using a Direct Final Rule. No significant adverse comments are anticipated. All interested parties should comment at this time because we will not initiate an additional comment period.

If significant adverse comments are received, we will publish a timely notice in the Federal Register withdrawing this Direct Final Rule. For purposes of withdrawing this Direct Final Rule, a significant adverse comment is one that explains: (1) why the Direct Final Rule is inappropriate, including challenges to the rule's underlying premise or approach; or (2) why the Direct Final Rule will be ineffective or unacceptable without a change. In determining whether a significant adverse comment necessitates withdrawal of this Direct Final Rule, we will consider whether the comment raises an issue serious enough to warrant a substantive response through the notice and comment process.

II. Background

Through this Direct Final Rule, the Department is removing and reserving the JTPA regulations at 20 CFR parts 626, 627, 628, 631, 632, 633, 634, 636, 637, and 638, which were designed to improve the employment status of disadvantaged young adults, dislocated workers, and individuals facing barriers to employment. These regulations have been superseded by the regulations promulgated under the Workforce Investment Act of 1998 (WIA), 29 U.S.C. 2801 et seq.

The statutory purpose of the JTPA was to establish programs that prepared disadvantaged youth and adults who faced serious barriers to employment for participation in the labor force by providing job training and other services that would result in increased employment and earnings, increased educational and occupational skills, and decreased welfare dependency. See 20 CFR part 626. To carry out this purpose, the Department published regulations that implemented adult and youth training programs, summer youth employment and training programs, provided employment and training assistance for dislocated workers, and authorized programs for other individuals facing barriers to employment. See 20 CFR parts 628, 631. The JTPA regulations also established corrective action and sanctions for instances of noncompliance, provided procedures for hearings, and established standards and expectations for the programs authorized under the Act. See 20 CFR part 627.

On August 7, 1998, Congress passed WIA. Under WIA, which superseded the JTPA, Congress required the Secretary of Labor to develop and publish interim final regulations (IFR) to implement this transition no later than 180 days after WIA's enactment date. See 20 U.S.C. 9276(c)(1). The Department published the WIA IFR on April 15, 1999. See 64 FR 18662. In that IFR, the Department explicitly provided for the phased transition of the JTPA programs to WIA, to be fully completed by July 1, 2000. See 64 FR 18662, 18663 (Apr. 15, 1999). The final rule implementing WIA was published on August 11, 2000. See 65 FR 49293 (Aug. 11, 2000).

Initially, although the JTPA authorizing legislation was repealed, the Department retained the JTPA regulations in the Code of Federal Regulations for grant closeout and auditing purposes. However, now that the JTPA programs have been transitioned to WIA for over a decade, the Department finds no reason to retain the JTPA regulations. Furthermore, the Department has previously removed several other JTPA regulatory provisions. Parts 629 and 630 were removed at 57 FR 62004 (Dec. 29, 1992). Part 635 was re-designated as 20 CFR part 1005 at 54 FR 39352 (Sept. 26, 1989), and the Department later removed part 1005 at 59 FR 26601 (May 23, 1994). Finally, the Department notes that it re-designated part 684 as part 638 at 55 FR 12992 (Apr. 6, 1990). Those JTPA regulatory provisions that remain are subject to this removal notice.

List of Subjects

20 CFR Parts 626, 627, 628, 631 and 637

Accounting, Administrative practice and procedure, Disaster assistance, Grant programs—Labor, Manpower training programs, Reporting and recordkeeping requirements, Youth.

20 CFR Part 632

Administrative practice and procedure, Fraud, Grant programs—Indians, Grant programs—labor, Hawaiian Natives, Manpower training programs, Reporting and recordkeeping requirements Youth.

20 CFR Part 633

Grant programs—labor, Manpower training programs, Migrant labor, Recording and record keeping requirements.

20 CFR Part 634

Grant Programs—labor, Manpower training programs, Statistics.

20 CFR Part 636

Administrative practice and procedure, Grant programs—labor, Manpower training programs.

20 CFR Part 638

Grant programs—labor, Job Corps, Lobbying, Manpower training programs, Recording and record keeping requirements, Youth.

Accordingly, under the authority of the Workforce Investment Act of 1998 (WIA), 29 U.S.C. 9276(a), and for the reasons discussed in the preamble, the Department amends 20 CFR Chapter V by removing Parts 626, 627, 628, 631, 632, 633, 634, 636, 637, and 638 as follows:

PART 626—[REMOVED AND RESERVED]

1. Remove and reserve part 626, consisting of §§ 626.1 through 626.5.

PART 627—[REMOVED AND RESERVED]

2. Remove and reserve part 627, consisting of §§ 627.100 through 627.906.

PART 628—[REMOVED AND RESERVED]

3. Remove and reserve part 628, consisting of §§ 628.100 through 628.804.

PART 631—[REMOVED AND RESERVED]

4. Remove and reserve part 631, consisting of §§ 631.1 through 631.87.

PART 632—[REMOVED AND RESERVED]

5. Remove and reserve part 632, consisting of §§ 632.1 through 632.263.

PART 633—[REMOVED AND RESERVED]

6. Remove and reserve part 633, consisting of §§ 633.102 through 633.322.

PART 634—[REMOVED AND RESERVED]

7. Remove and reserve part 634, consisting of §§ 634.1 through 634.5.

PART 636—[REMOVED AND RESERVED]

8. Remove and reserve part 636, consisting of §§ 636.1 through 636.11.

PART 637—[REMOVED AND RESERVED]

9. Remove and reserve part 637, consisting of §§ 637.100 through 637.310.

PART 638—[REMOVED AND RESERVED]

10. Remove and reserve part 638, consisting of §§ 638.100 through 638.815.

Signed at Washington, DC, this 18th day of December, 2012.
Jane Oates
Assistant Secretary, Employment and Training Administration.

[FR Doc. 2012-31029 Filed 12-28-12; 8:45 am]

BILLING CODE 4510-FN-P